DEPARTMENT OF COMMERCE

National Oceanic and Atmospheric Administration

[RTID 0648-XB266]

Pacific Island Fisheries; Garapan Fishing Base Shoreline Revetment

AGENCY: National Marine Fisheries Service (NMFS), National Oceanic and Atmospheric Administration (NOAA), Commerce.

ACTION: Notice of availability of a draft environmental assessment; request for comments.

SUMMARY: NMFS announces the availability of a draft environmental assessment (EA) evaluating the potential effects of constructing a rock revetment along Garapan Fishing Base, Saipan, Commonwealth of the Northern Mariana Islands (CNMI). Garapan Fishing Base supports sustainable fishing infrastructure including a boat ramp, trailer parking, and other community activities such as shore fishing, community markets and recreation. Stabilizing the shoreline would protect public land and infrastructure and reduce erosion resulting in improved water quality in Saipan Lagoon along shore.

DATES: NMFS must receive comments by February 28, 2022.

ADDRESSES: You may submit comments on this document, identified by NOAA-NMFS-0132, by any of the following methods:

• Electronic Submission: Submit all electronic public comments via the Federal e-Rulemaking Portal. Go to https://www.regulations.gov/docket/NOAA-NMFS-0132, in the Search box. Click on the “Comment” icon, complete the required fields, and enter or attach your comments.

• Mail: Submit written comments to Michael D. Tosatto, Regional Administrator, NMFS Pacific Islands Regional Office (PIRO), 1845 Wasp Blvd., Bldg. 176, Honolulu, HI 96818.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Phyllis Ha, NMFS PIRO, Sustainable Fisheries, 808-725-5174.

SUPPLEMENTARY INFORMATION: NMFS proposes to provide Western Pacific Sustainable Fisheries Funds (SFF) to the Western Pacific Fishery Management Council (Council) to support construction of a rock revetment along Garapan Fishing Base, Saipan, CNMI. The Council would in turn, provide funds to the CNMI Department of Lands and Natural Resources (DLNR) to construct the revetment to stabilize 380 feet of shoreline. DLNR would use locally mined limestone rock to build the revetment and construction would proceed in three phases in accordance with engineering specifications. Phase I would begin in the area immediately adjacent to and south of the storm drain that is south of Garapan boat ramp and extend south along the coast for approximately 100 feet. Phase II would continue south for another 100 feet. Phase III would continue south for the remaining 180 feet. All together, the rock revetment would extend approximately 380 feet south along the coast, with the final 40 feet consisting of a gradual grade of flanking rocks. The revetment crest will be generally 4 to 5 feet above sea level and cemented for stability. The toe will be set at 4.5 feet below sea level and buried in sand and gravel to sea level. The revetment will extend approximately 15 feet offshore. However, the bottom of the revetment and toe is to be buried in sand, so it will appear to extend between 5 and 8 feet offshore at low tide along most of its length.

NMFS has produced a draft EA to evaluate the environmental effects of constructing the rock revetment. The draft EA shows that the construction includes several provisions intended to protect air and water quality and prevent large adverse effects on marine benthic habitats and wildlife, historic resources, and other features of the coastal and marine environment. NMFS is seeking public comments on the draft EA.

Dated: January 21, 2022.
Ngagne Jafnar Gueye,
Acting Director, Office of Sustainable Fisheries, National Marine Fisheries Service.

[FR Doc. 2022-01694 Filed 1-27-22; 8:45 am]

BILLING CODE 3510-22-P